DEPARTMENT OF ENERGY

Federal Energy Regulatory Commission

[Project No. 2804-037]

Goose River Hydro Inc.; Notice of Termination of License (Minor Project) by Implied Surrender and Soliciting Comments, Protests, and Motions To Intervene

Take notice that the following hydroelectric proceeding has been initiated by the Commission:

a. Application Type: Termination of License by Implied Surrender.

b. Project No: 2804-037.

c. Date Initiated: January 29, 2021.

d. Licensee: Goose River Hydro Inc.

e. Name of Project: Goose River Hydroelectric Project.

f. Location: The Goose River Hydroelectric Project is located on the Goose River near Belfast and Swanville, Waldo County, Maine.

g. Filed Pursuant to: Standard Article 16.

h. Applicant Contact: Mr. Kyle J. Skinner, Vice President, Goose River Hydro Inc., P.O. Box 334, Belfast, ME 04915.

i. FERC Contact: Diana Shannon, (202) 502-6136, diana.shannon@ferc.gov.

j. Deadline for filing comments, motions to intervene and protests: March 1, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-2804-037. Comments emailed to Commission staff are not considered part of the Commission record.

k. Description of Project Facilities: The project includes five developments, along approximately 8 miles of the Goose River: Swan Lake, Mason's, Kelly, Mill, and Central Maine Power (CMP). Only three of these can generate electricity: Mason's, Mill, and CMP developments. Project features include the dams, intakes, gates, penstocks, powerhouses, tailraces, and transmission lines at each development. Impoundments at Swan Lake, Kelly, Mill, and CMP developments, and a portion of the impoundment at the Mason's development is included in the project boundary. The Mill and CMP development are in disrepair and have not generated since 2003.

l. Description of Proceeding: License Article 16 states in part: If the licensee shall abandon or discontinue good faith operation of the project or refuse or neglect to comply with the terms of the license and the lawful orders of the Commission mailed to the record address of the licensee or its agent, the Commission will deem it to be the intent of the licensee to surrender the license. In this proceeding, the Commission may find cause to waive the requirement in 18 CFR 6.4 to wait 90 days after public notice to terminate the license.

Since 2014, Commission staff have worked with Goose River Hydro, Inc., licensee, to restore project operation. On February 2, 2018, the licensee filed an application for subsequent license, but failed to provide specific details on needed repairs. On July 16, 2019, Commission staff informed the licensee of the need for additional information. A response was filed on October 31, 2019, which by letter dated January 8, 2020, Commission staff found inadequate. On April 10, 2020, Commission staff issued an order dismissing the licensee's application for a subsequent license. By order dated September 3, 2020, the Commission directed the licensee to file a surrender application by January 31, 2021. In a January 8, 2021 filing, the licensee states it is incapable of filing a surrender application because it has no assets, Goose River Hydro, Inc. is in dissolution, and it does not have the rights to certain project features.

m. Location of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS,” “PROTEST,” or “MOTION TO INTERVENE” as applicable; (2) set forth in the heading the name of the applicant and the project number of the application to which the filing responds; (3) furnish the name, address, and telephone number of the person protesting or intervening; and (4) otherwise comply with the requirements of 18 CFR 385.2001-385.2005. All comments, motions to intervene, or protests must set forth their evidentiary basis and otherwise comply with the requirements of 18 CFR 4.34(b). All comments, motions to intervene, or protests should relate to project works which are the subject of the implied surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 29, 2021.
Kimberly D. Bose,
Secretary.

[FR Doc. 2021-02331 Filed 2-3-21; 8:45 am]

BILLING CODE 6717-01-P